DEPARTMENT OF HOMELAND SECURITY

Coast Guard

33 CFR Part 117

[Docket No. USCG-2014-0125]

Drawbridge Operation Regulation; Chef Menteur Pass, at Lake Catherine, LA

AGENCY: Coast Guard, DHS.

ACTION: Notice of deviation from drawbridge regulations.

SUMMARY: The Coast Guard has issued a temporary deviation from the regulation governing the operation of the U.S. Highway 90 swing highway bridge across the Chef Menteur Pass, mile 2.8, at Lake Catherine, Orleans Parish, Louisiana. The deviation is necessary to ensure the safety of participants in the Ochsner Ironman 70.3 New Orleans event as they run across the bridge. This deviation allows the bridge to remain in the closed-to-navigation position continuously during the event.

DATES: This deviation is effective from 7 a.m. through 2 p.m. on Sunday, April 13, 2014.

ADDRESSES: The docket for this deviation, [USCG-2014-0125] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Administration Branch, Coast Guard, telephone (504) 671-2128, email james.r.wetherington@uscg.mil. If you have questions on viewing the docket, call Cheryl F. Collins, Program Manager, Docket Operations, telephone 202-366-9826.

SUPPLEMENTARY INFORMATION: The Coast Guard received a request for a temporary deviation for the U.S. Highway 90 swing bridge crossing the Chef Menteur Pass, mile 2.8, at Lake Catherine, Orleans, Parish, Louisiana to remain in the closed-to-navigation position for a seven-hour period during the Ochsner Ironman 70.3, on April 13, 2014. The bridge owner also received a request to close the bridge to all traffic during the Ironman event, which was approved. The bridge provides 10 feet vertical clearance in the closed-to-navigation position at mean high water. Currently, according to 33 CFR 117.436, the draw of the U.S. Highway 90 Bridge, mile 2.8, shall open on signal; except that, from 5:30 a.m. to 7:30 a.m. Monday through Friday, except Federal holidays, the draw need open only on the hour and on the half-hour for the passage of vessels. The draw shall open at any time for a vessel in distress. This deviation allows the draw span of the bridge to remain closed to navigation between 7 a.m. and 2 p.m. on Sunday, April 13, 2014 while the Ironman participants travel across the bridge as part of the race course. Navigation on the waterway consists mainly of commercial fishermen and sportsman fishermen. As a result of coordination between the Coast Guard and the waterway users, it has been determined that this closure will not have a significant effect on these vessels. The Coast Guard will inform users through the Local and Broadcast Notice to Mariners of the closure period. There is an alternate route available via The Rigolets Pass to vessel traffic. Vessels that can pass under the bridge in the closed-to-navigation position can do so at any time. The bridge will not be able to open for emergencies.

In accordance with 33 CFR 117.436, the drawbridge must return to its regular operating schedule immediately at the end of the designated time period. This deviation from the operating regulations is authorized under 33 CFR 117.35.

Dated: March 7, 2014.
David M. Frank,
Bridge Administrator.

[FR Doc. 2014-06260 Filed 3-20-14; 8:45 am]

BILLING CODE 9110-04-P